ENVIRONMENTAL PROTECTION AGENCY

[FRL-7639-2; EDocket ID No. OAR-2004-0016]

Agency Information Collection Activities: Proposed Collection; Comment Request; Part 71 Federal Operating Permit Regulations, EPA ICR Number 1713.05, OMB Control Number 2060-0336

AGENCY: Environmental Protection Agency (EPA).

ACTION: Notice.

SUMMARY: In compliance with the Paperwork Reduction Act(44 U.S.C. 3501 et seq.), this document announces that EPA is planning to submit a continuing Information Collection Request (ICR) to the Office of Management and Budget (OMB). This is a request to renew an existing approved collection. This ICR is scheduled to expire on October 31, 2004. Before submitting the ICR to OMB for review and approval, EPA is soliciting comments on specific aspects of the proposed information collection as described below.

DATES: Comments must be submitted on or before May 24, 2004.

ADDRESSES: Submit your comments, referencing docket ID number OAR-2004-0016, to EPA online using EDocket (our preferred method), by e-mail to “a-and-r-docket@epa.gov,” or by mail to: EPA Docket Center, Environmental Protection Agency, Air and Radiation Docket and Information Center, Mail Code 6102T, 1200 Pennsylvania Avenue, NW., Washington, DC 20460.

FOR FURTHER INFORMATION CONTACT: A. Scott Voorhees, Ph.D., Office of Air Quality Planning and Standards, U.S. Environmental Protection Agency, Mail Code C304-04, Research Triangle Park, NC 27711; telephone number: 919-541-5348; fax number: 919-541-5509; e-mail address: voorhees.scott@epa.gov.

SUPPLEMENTARY INFORMATION: The EPA has established a public docket for this ICR under Docket ID number OAR-2004-0016, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets(EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. The EPA's policy is that public comments, whether submitted electronically or in paper, will be made available for public viewing in EDOCKET as EPA receives them and without change unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those which must apply for and obtain a federally issued operating permit under title V of the Clean Air Act (Act). These, in general, include sources which are defined as “major” under any title of the Act.

Title: Part 71 Federal Operating Permit Regulations.

Abstract: The part 71 program is a Federal operating permits program that is being implemented for sources located in Indian Country, Outer Continental Shelf sources, and also in those areas without acceptable part 70 programs. Title V of the Clean Air Act imposes on States the duty to develop, administer and enforce operating permit programs which comply with title V and requires EPA to stand ready to issue Federal operating permits when States fail to perform this duty. Section 502(b) of the Act requires EPA to promulgate regulations setting forth provisions under which States will develop operating permit programs and submit them to EPA for approval. Pursuant to this section, EPA promulgated 40 CFR part 70 on July 21, 1992 (57 FR 32250) which specifies the minimum elements of State operating permit programs.

Pursuant to regulations promulgated by EPA on February 19, 1999 (64 FR 8247), EPA has authority to establish part 71 programs within Indian Country, and EPA began administering the program in Indian country on March 22, 1999. Since many Indian tribes lack the resources and capacity to develop operating permit programs, EPA is currently administering and enforcing part 71 programs in the areas that comprise Indian Country in order to protect the air quality of areas under tribal jurisdiction.

The EPA intends to protect tribal air quality through the development of implementation plans, permits programs, and other means, including direct assistance to tribes in developing comprehensive and effective air quality management programs. The EPA will consult with tribes to identify their particular needs for air program development assistance and will provide ongoing assistance as necessary.

The EPA will also issue permits to “outer continental shelf” (OCS) sources (sources located in offshore waters of the United States) pursuant to the requirements of section 328(a) of the Act. For sources beyond 25 miles (40 km) of the States' seaward boundaries, EPA is the permitting authority, and the provisions of part 71 will apply to the permitting of those OCS sources. Permits for sources located within 25 miles of a State's seaward boundaries are issued by the Administrator (or a State or local agency which has been delegated the OCS program in accordance with 40 CFR part 55 of this chapter) pursuant to the part 70 or part 71 program which is effective in the corresponding onshore area.

Investigation of the OCS ICR indicates currently there are only two OCS sources which fall under the jurisdiction of the Federal program. There are approximately 95 sources in Indian Country that require part 71 permits.

The EPA has the authority to establish a partial part 71 program in limited geographical areas of a State if EPA has approved a part 70 program (or combination of part 70 programs) for the remaining areas of the State. The EPA will promulgate a part 71 program for a permitting authority if EPA finds that a permitting authority is not adequately administering or enforcing its approved program and it fails to correct the deficiencies that precipitated EPA's finding.

The EPA may use part 71 in its entirety or any portion of the regulations as needed. Similarly, EPA may use only portions of the regulations to correct and issue a State permit without, for example, requiring an entirely new application. Section 71.4(f) also authorizes EPA to exercise its discretion in designing a part 71 program. The EPA may promulgate a part 71 program based on the national template described in part 71 or may modify the national template by adopting appropriate portions of a State's program as part of the Federal program for that State, provided the resulting program is consistent with the requirements of title V.

An agency may not conduct or sponsor, and a person is not required to respond to, a collection of information unless it displays a currently valid OMB control number. The OMB control numbers for EPA's regulations in 40 CFR are listed in 40 CFR part 9.

The EPA would like to solicit comments to:

(i) evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The projected cost for implementing the part 71 program for the 3 years from November 1, 2004, until October 31, 2007, is approximately $1.1 million in annualized direct costs to sources. These costs represent the direct administrative costs for 95 major sources, for a cost of $11,711 per source. The Agency expects Federal costs will be $720,000 ($7,564 per source). The Agency anticipates administering a part 71 program for approximately 95 sources in Indian Country and the Outer Continental Shelf. For a part 71 permit program in place after withdrawing part 70 program approval, and which is fully delegated by the Agency, the expected Federal cost would be $450,000 ($283 per source). These costs provide an upper and lower bound to the expected cost of the part 71 regulation. The Agency anticipates that these burden estimates will change as the number of State and Local operating permitting programs to be administered by the Agency as Federal programs changes over time. These changes to the burden estimate will be reflected in the ICR document. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 10, 2004.
Richard A. Wayland,
Acting Director, Information Transfer and Program, Implementation Division.

[FR Doc. 04-6429 Filed 3-22-04; 8:45 am]

BILLING CODE 6560-50-P